DEPARTMENT OF THE TREASURY

Internal Revenue Service

26 CFR Part 1

[REG-100548-01]

RIN 1545-AY72

Withdrawal of Proposed Regulations Relating to Corporations Filing Consolidated Returns and Proposed Regulations Relating to Collapsible Corporations

AGENCY: Internal Revenue Service (IRS), Treasury.

ACTION: Withdrawal of notices of proposed rulemaking.

SUMMARY: This document withdraws two notices of proposed rulemaking, one relating to corporations filing consolidated income tax returns and the other relating to collapsible corporations. The proposed regulations were published before the enactment of the Internal Revenue Code of 1986, do not reflect changes to the tax law made after their publication, and will not be finalized unless reproposed.

DATES: These proposed regulations are withdrawn June 27, 2001.

FOR FURTHER INFORMATION CONTACT: Charles M. Whedbee (202) 622-7550 (not a toll-free call).

SUPPLEMENTARY INFORMATION:

Background

On July 31, 1984, the IRS issued proposed regulations (LR-97-79) relating to corporations filing consolidated returns (49 FR 30528). Portions of these proposed consolidated return regulations were withdrawn by subsequent notices of proposed rulemaking (CO-78-90 and REG-103805-99) published in the Federal Register on February 4, 1991 (56 FR 4228) and September 26, 2000 (65 FR 57755).

On August 31, 1984, the IRS issued proposed regulations (LR-107-84) relating to collapsible corporations (49 FR 34523).

The IRS is withdrawing these proposed regulations because of intervening amendments to the Internal Revenue Code and because these regulations projects will not be undertaken in the foreseeable future (or if undertaken, the regulations will be reproposed).

Drafting Information

The principal author of this withdrawal notice is Charles M. Whedbee of the Office of the Associate Chief Counsel (Corporate). However, other personnel from the IRS and Treasury participated in its development.

List of Subjects in 26 CFR Part 1

Income taxes, Reporting and recordkeeping requirement.

Withdrawal of Notices of Proposed Rulemaking

Accordingly, under the authority of 26 U.S.C. 7805, the notices of proposed rulemaking published in the Federal Register on July 31, 1984 (49 FR 30528) and August 31, 1984 (49 FR 34523) are withdrawn.

Robert E. Wenzel,
Deputy Commissioner of Internal Revenue.

[FR Doc. 01-16021 Filed 6-26-01; 8:45 am]

BILLING CODE 4830-01-P